DEPARTMENT OF ENERGY

Federal Energy Regulatory Commission

Combined Notice of Filings #1

Take notice that the Commission received the following exempt wholesale generator filings:

Docket Numbers: EG24-116-000.

Applicants: 20SD 8me LLC.

Description: 20SD 8me LLC submits Request for Commission Certification of Exempt Wholesale Generator Status.

Filed Date: 2/20/24.

Accession Number: 20240220-5203.

Comment Date: 5 p.m. ET 3/12/24.

Take notice that the Commission received the following Complaints and Compliance filings in EL Dockets:

Docket Numbers: EL24-76-000.

Applicants: I Squared Capital Advisors (US) LLC, ISQ Global Fund III GP, LLC, ISQ Growth Markets Fund GP, LLC, ISQ Energy Transition Fund GP, LLC.

Description: Petition for Declaratory Order of I Squared Capital Advisors (US) LLC, ISQ Global Fund III GP, LLC, ISQ Growth Markets Fund GP, LLC and ISQ Energy Transition Fund GP, LLC.

Filed Date: 2/15/24.

Accession Number: 20240215-5294.

Comment Date: 5 p.m. ET 3/18/24.

Take notice that the Commission received the following electric rate filings:

Docket Numbers: ER10-2374-019.

Applicants: Puget Sound Energy, Inc.

Description: Notice of Non-Material Change in Status of Puget Sound Energy, Inc., et al.

Filed Date: 2/16/24.

Accession Number: 20240216-5273.

Comment Date: 5 p.m. ET 3/8/24.

Docket Numbers: ER24-1273-000.

Applicants: PacifiCorp.

Description: Petition for Limited Waiver of PacifiCorp.

Filed Date: 2/15/24.

Accession Number: 20240215-5293.

Comment Date: 5 p.m. ET 2/29/24.

Docket Numbers: ER24-1278-000.

Applicants: Alabama Power Company, Georgia Power Company, Mississippi Power Company.

Description: § 205(d) Rate Filing: Alabama Power Company submits tariff filing per 35.13(a)(2)(iii: Amber Meadow Solar LGIA Filing to be effective 2/7/2024.

Filed Date: 2/20/24.

Accession Number: 20240220-5182.

Comment Date: 5 p.m. ET 3/12/24.

Docket Numbers: ER24-1279-000.

Applicants: Duke Energy Carolinas, LLC.

Description: § 205(d) Rate Filing: DEC-Concord NITSA SA No. 150 to be effective 2/1/2024.

Filed Date: 2/20/24.

Accession Number: 20240220-5212.

Comment Date: 5 p.m. ET 3/12/24.

Docket Numbers: ER24-1280-000.

Applicants: Avista Corporation.

Description: § 205(d) Rate Filing: Avista Corp Amendment No. 1 AV-TR23-1209, KECI to be effective 3/31/2024.

Filed Date: 2/20/24.

Accession Number: 20240220-5244.

Comment Date: 5 p.m. ET 3/12/24.

Docket Numbers: ER24-1281-000.

Applicants: Russellville Solar LLC.

Description: Baseline eTariff Filing: Market-Based Rate Application to be effective 4/21/2024.

Filed Date: 2/20/24.

Accession Number: 20240220-5253.

Comment Date: 5 p.m. ET 3/12/24.

Docket Numbers: ER24-1282-000.

Applicants: SR Ailey, LLC.

Description: Baseline eTariff Filing: Market-Based Rate Tariff to be effective 4/21/2024.

Filed Date: 2/20/24.

Accession Number: 20240220-5255.

Comment Date: 5 p.m. ET 3/12/24.

Take notice that the Commission received the following electric reliability filings:

Docket Numbers: RD23-1-002.

Applicants: North American Electric Reliability Corporation.

Description: Compliance Filing of the North American Electric Reliability Corporation for Cold Weather Data Collection.

Filed Date: 2/16/24.

Accession Number: 20240216-5257.

Comment Date: 5 p.m. ET 3/12/24.

Docket Numbers: RD24-5-000.

Applicants: North American Electric Reliability Corporation.

Description: North American Electric Reliability Corporation submits Petition for Approval of Proposed Reliability Standard EOP-012-2 and Request for Expedited Action.

Filed Date: 2/16/24.

Accession Number: 20240216-5277.

Comment Date: 5 p.m. ET 3/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m.

Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 20, 2024.
Debbie-Anne A. Reese,
Acting Secretary.

[FR Doc. 2024-03925 Filed 2-26-24; 8:45 am]

BILLING CODE 6717-01-P